DEPARTMENT OF THE INTERIOR

National Park Service

National Register of Historic Places; Notification of Pending Nominations and Related Actions

Nominations for the following properties being considered for listing or related actions in the National Register were received by the National Park Service before January 2, 2009. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by February 5, 2009.

J. Paul Loether,
Chief National Register of Historic Places/National Historic Landmarks Program.

ALABAMA

Russell County

Hurtsboro Historic District, 308-905 Church St., 508 Daniel St., 303-407 Dickinson St., 302-802 Goolsby St., 402-502 Lloyd St., 242-282 Long St., Hurtsboro, 09000001

ARIZONA

Maricopa County

La Hacienda Historic District, Bounded by N. 3rd St. to the W., N. 7th St. to the E., E. Catalina Dr. to the N., E. Thomas Rd. to the S., Phoenix, 09000002

ARKANSAS

Faulkner County

Mt. Zion Missionary Baptist Church, (Mixed Masonry Buildings of Silas Owens, Sr. MPS) 249 AR 107, Enola, 09000003

Yell County

Dardanelle Commercial Historic District, Roughly bounded by Front, Oak, 2nd and Pine Sts., Dardanelle, 09000004

KENTUCKY

Fayette County

Pepper, James E., Distillery, 1200 Manchester St., Lexington, 09000006

Larue County

Buffalo School, 50 School Loop, Buffalo, 09000005

Logan County

Block Bottom Historic District, Bounded by E. 5th and 7th Sts., Bowling Green Rd. and Morgan St., Russellville, 09000007

McCracken County

Kenmil Place, 4300 Alben Barkley Dr., Paducah, 09000008

MAINE

Androscoggin County

Peck, Bradford, House, 506 Main St., Lewiston, 09000010

Aroostook County

Donovan-Hussey Farms Historic District, 546 and 535 Ludlow Rd., Houlton, 09000012

Duncan, Beecher H., Farm, 26 Shorey Rd., Westfield, 09000011

MAINE

Lincoln County

Brick House Historic District, 478 River Rd., Newcastle, 09000013

Oxford County

Stearns Hill Farm, 90 Stearns Hill Rd., West Paris, 09000014

York County

District No. 5 School, 781 Gore Rd., Alfred, 09000015

MISSOURI

Texas County

Houston High School, 423 W. Pine, Houston, 09000016

UTAH

Cache County

Crockett House, 82 Crockett Ave., Logan, 09000017

Salt Lake County

Utah-Idaho Sugar Factory, 2140 W. Sugar Factory Rd., West Jordan, 09000018

Summit County

Boyden Block, 2 S. Main St., Coalville, 09000019

Spiro Tunnel Mining Complex, 1825 Three Kings Dr., Park City, 09000020

WISCONSIN

St. Croix County

Kriesel, Louis C. and Augusta, Farmstead, 132 State Trunk Hwy 35/64, St. Joseph, 09000021

Thelen, John Nicholas and Hermina, House, 1383 and 1405 Thelen Farm Trail, St. Joseph, 09000022

Request for move has been made for the following resource:

UTAH

Summit County

Beggs, Ellsworth J., House, 703 Park Ave., Park City, 84002240

[FR Doc. E9-1015 Filed 1-16-09; 8:45 am]

BILLING CODE 4310-70-P